DEPARTMENT OF TRANSPORTATION

Office of the Secretary

[Docket No. DOT-OST-2010-01-02]

Notice of Requests for Renewal of a Currently Approved Information Collection

AGENCY: Office of the Secretary.

ACTION: Notice and request for comments.

SUMMARY: In accordance with the Paperwork Reduction Act of 1995, Public Law 104-13, the Department of Transportation (DOT) announces its intention to request the Office of Management and Budget's (OMB) approval to renew an information collection. The collection involved here requests only information concerning the subsidy-eligible flights (which generally constitute only a small percentage of the carriers' total operations) of a small number of air carriers. The collection permits the Department to timely pay air carriers for providing essential air service to certain eligible communities that would not otherwise receive scheduled passenger air service. The Department provides that subsidy to air carriers monthly, and payments will vary according to the actual amount of service performed during the monthly billing cycle. The reports of subsidized air carriers of essential air service are performed on the Department's Form 398, “Air Carrier's Claim for Subsidy.”

DATES: Written comments should be submitted by June 29, 2010.

ADDRESSES: You may submit comments [identified by Docket No. DOT-OST-2010-01-02] through one of the following methods:

• Federal eRulemaking Portal: http://www.regulations.gov. Follow the online instructions for submitting comments.

• Fax: 1-202-493-2251.

• Mail or Hand Delivery: Docket Management Facility, U.S. Department of Transportation, 1200 New Jersey Avenue, SE., West Building, Room W12-140, Washington, DC 20590, between 9 a.m. and 5 p.m., Monday through Friday, except on Federal holidays.

FOR FURTHER INFORMATION CONTACT: Gregory Frazier, 202-366-0473, Office of Resource Directorate, Office of the Secretary, U.S. Department of Transportation, 1200 New Jersey Avenue, SE., Washington, DC 20590.

SUPPLEMENTARY INFORMATION: OMB Control Number: 2106-0044.

Title: Air Carrier's Claim for Subsidy.

Form Numbers: OST Form 398.

Type of Review: Renewal of a currently approved information collection.

Background: In accordance with 14 CFR 271 of its Aviation Economic Regulations, the Department provides subsidy to air carriers for providing essential air service in small rural communities. Funding will be paid to the air carriers monthly and those payments will vary according to the actual amount of service performed during the month. The report of subsidized air carriers of essential air service performed on the Department's Form 398 “Air Carrier's Claim for Subsidy,” establishes the fundamental basis for paying these air carriers on a timely basis. Typically, subsidized air carriers are small businesses and operate only aircraft of limited size over a limited geographical area. The collection permits subsidized air carriers to submit their monthly claims in a concise, orderly, easy-to process form, without having to devise their own means of submitting support for these claims.

Respondents: Small air carriers selected by the Department in docketed cases to provide subsidized essential air service.

Number of Respondents: 24.

Number of Responses: 1560 annually.

Frequency: Monthly.

Estimated Total Burden on Respondents: 5,413 annually.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC, on April 21, 2010.
John DiLuccio,
Director, Resource Directorate.

[FR Doc. 2010-9819 Filed 4-29-10; 8:45 am]

BILLING CODE 4910-62-P